DEPARTMENT OF AGRICULTURE

Forest Service

Information Collection: Southwestern Crown of the Continent Collaborative Forest Landscape Restoration Project

AGENCY: Forest Service, USDA.

ACTION: Notice; request for comment.

SUMMARY: In accordance with the Paperwork Reduction Act of 1995, the Forest Service is seeking comments from all interested individuals and organizations on the proposed new information collection, Southwestern Crown of the Continent Collaborative Forest Landscape Restoration Project.

DATES: Comments must be received in writing on or before May 2, 2017 to be assured of consideration. Comments received after that date will be considered to the extent practicable.

ADDRESSES: Comments concerning this notice should be addressed to Lindsay Buchanan, Collaborative Forest Landscape Restoration Program Coordinator, 1220 SW 3rd Ave., Portland, Oregon, 97204. Comments may also be submitted by email to: lindsaysbuchanan@fs.fed.us. The public may inspect comments received at 1220 SW 3rd Ave., Portland, Oregon 97204, during normal business hours. Visitors are encouraged to call ahead to 503-808-2810 to facilitate entry to the building.

FOR FURTHER INFORMATION CONTACT: Lindsay Buchanan, 503-808-2810. Individuals who use telecommunication devices for the deaf (TDD) may call the Federal Information Relay Service (FIRS) at 1-800-877-8339, twenty-four hours a day, every day of the year, including holidays.

SUPPLEMENTARY INFORMATION:

Title: Southwestern Crown of the Continent Collaborative Forest Landscape Restoration Project.

OMB Number: 0596—NEW.

Expiration Date of Approval: Not Applicable—new request.

Type of Request: New.

Abstract: The Collaborative Forest Landscape Restoration Program (CFLRP) is a U.S. Forest Service (USFS) program started in 2010 to encourage collaborative groups of neighboring landowners, to work with the Forest Service to find common ground pertaining to forest restoration. Such collaborative neighboring landowners include State, local and Tribal government representatives, businesses, interest groups, and non-profit organizations. The Southwestern Crown Collaborative (SWCC) is one of 23 Collaborative Forest Landscape Restoration (CFLR) projects across the nation currently. In the SWCC, partners work with the USFS to implement restoration work and multi-party monitoring of landscape restoration treatments across four counties and three National Forests in western Montana.

The Forest Landscape Restoration Act (FLRA) of 2009 (16 U.S.C. 7303), which enabled the CFLRP, requires monitoring “to assess the positive or negative ecological, social, and economic effects of projects implementing a selected proposal for not less than 15 years after project implementation commences.” This Information Collection Request (ICR) will help meet the SWCC's obligation for monitoring the social impacts on residents and stakeholders of activities conducted under the CFLRP. The scope of the ICR includes residents of communities within and adjacent to the SWCC landscape and collaborative participants.

Gaining information from individuals who work or live in the geographic area of the SWCC provides valuable information to partners and land management decision makers. To ensure the USFS is informed about the opinions of participants of collaborative processes and public members living in or around the SWCC, the USFS seeks to obtain approval by the Office of Management and Budget (OMB) of an ICR to collect both qualitative and quantitative feedback from stakeholders on management decisions, forest restoration work, monitoring activities, and land management planning. The information will be collected through a census survey of participants of the Southwestern Crown Collaborative and a mail-in, on-line, and hard copy survey of residents of the Southwestern Crown of the Continent Landscape. Through the collection of this information, managers and planners will obtain valuable information to inform future decisions. USFS public affairs staff, social scientists, and economists may also use this information, and USFS, academic, and other researchers may use or cite the results or data collected in publications.

Without the collection of this information, the USFS will be unable to determine whether it is meeting the requirements of the Forest Landscape Restoration Act, nor if they are fully incorporating partner and public input into forest project, implementation, monitoring and/or planning processes as required by law.

Type of Respondents: Residents within the Southwestern Crown CFLRP landscape (4,429 occupied dwellings) and Southwestern Crown Collaborative participants (150 participants on email list).

Estimated Annual Number of Respondents: 750.

Estimated Annual Number of Responses per Respondent: 1.

Estimated Total Annual Burden Hours on Respondents: 386 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for OMB approval.

Dated: February 15, 2017.
Jeanne Higgins,
Associate Deputy Chief, National Forest System.

[FR Doc. 2017-04153 Filed 3-2-17; 8:45 am]

BILLING CODE 3411-15-P